DEPARTMENT OF LABOR

Employment and Training Administration

[TA-W-50,989]

Sara Lee Bakery Group, Eau Claire, WI; Notice of Termination of Investigation

Pursuant to section 221 of the Trade Act of 1974, as amended, an investigation was initiated on February 26, 2003 in response to a worker petition filed by Bakery, Confectionery, Tobacco Workers and Grain Millers Union, Twin Cities Local 22 on behalf of workers at Sara Lee Bakery Group, Eau Claire, Wisconsin.

The petitioner has requested that the petition be withdrawn. Consequently, the investigation has been terminated.

Signed at Washington, DC this 25th day of March 2003.
Richard Church,
Certifying Officer, Division of Trade Adjustment Assistance.

[FR Doc. 03-8344 Filed 4-4-03; 8:45 am]

BILLING CODE 4510-30-P